NATIONAL SCIENCE FOUNDATION

Advisory Committee for Computer and Information Science and Engineering; Notice of Meeting

In accordance with the Federal Advisory Committee Act (Pub. L. 92-463, as amended), the National Science Foundation announces the following meeting:

Name: Advisory Committee for Computer and Information Science and Engineering—(1115).

Date and Time: May 7, 2010, 8:30 a.m.-5 p.m.

Place: The National Science Foundation, 4201 Wilson Blvd., Room 1235, Arlington, VA.

To help facilitate your access into the building, please contact Cassandra Queen at the Directorate for Computer and Information Science and Engineering at 703/292-8900 prior to the meeting so that a visitor's badge may be prepared for you in advance.

Type of Meeting: Open.

Contact Person: Rita Koch, Directorate for Computer and Information Science and Engineering, National Science Foundation, 4201 Wilson Blvd., Suite 1105, Arlington VA 22230. Telephone: (703) 292-8900.

Purpose of Meeting: To advise NSF on the impact of its policies, programs and activities on the CISE community. To provide advice to the Assistant Director for CISE on issues related to long-range planning, and to form ad hoc subcommittees to carry out needed studies and tasks.

Agenda: Report from the Assistant Director. Discussion of research, education, diversity, workforce issues in IT and long-range funding outlook.

Dated: April 8, 2010.
Susanne Bolton,
Committee Management Officer.

[FR Doc. 2010-8458 Filed 4-13-10; 8:45 am]

BILLING CODE 7555-01-P